DEPARTMENT OF JUSTICE

Federal Bureau of Investigation

Agency Information Collection Activities: Proposed Collection; Comments Requested

ACTION: Notice of information collection under review; extension of a currently approved collection; Supplementary Homicide Report.

The Department of Justice (DOJ), Federal Bureau of Investigation (FBI) has submitted the following information collection request to the Office of Management and Budget (OMB) for review and approval in accordance with the procedures of the Paperwork Reduction Act of 1995. The proposed information collection is published to obtain comments from the public and affected agencies. This proposed information collection was previously published in the Federal Register on January 26, 2001, allowing for a 60 days comment period.

The purpose of this notice is to allow for an additional 30 day for public comment until April 30, 2001. This process is conducted in accordance with 5 CFR 1320.10. Written comments and/or suggestions regarding the items contained in this notice, especially the estimated public burden and associated response time, should be directed to The Office of Management and Budget, Office of Information and Regulatory Affairs, Attention Department of Justice Desk Officer, Washington, DC 20503. Comments may also be submitted to Mr. Robert B. Briggs, Department Clearance Officer, United States Department of Justice, Information Management and Security Staff, Justice Management Division, 1331 Pennsylvania Avenue, NW., Suite 1220, Washington, DC 20530.

Written comments and suggestions from the public and affected agencies concerning the proposed collection of information are encouraged. Your comments should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Type of Information Collection: Extension of a Current Approved Collection

(2) Title of the Form/Collection: Supplementary Homicide Report

(3) Agency form number, if any, and the applicable component of the Department of Justice sponsoring the collection: FORM I-704. Criminal Justice Information Services Division, Federal Bureau of Investigation, Department of Justice.

(4) Affected public who will be asked or required to respond, as well as a brief abstract: Primary: Local and state law enforcement agencies. This report will gather information on age, sex, race, ethnic origin, and relationship of murder victims; the weapon and motive. Summary statistics are published in the Annual Report entitled Crime in the United States.

(5) As estimate of the total number of respondents and the amount of time estimated for an average respondent to respond: 16,788 agencies with 201,456 responses (Including zero reports) and with an average of nine minutes a month per responding Agency.

(6) An estimate of the total public burden (in hours) associated with the collection: 30,218 hours annually.

If additional information is required contact: Robert B. Briggs, Department Clearance Officer, Information Management and Security Staff, Justice Management Division, United States Department of Justice, 1331 Pennsylvania Avenue, NW., Washington, DC 20503.

Public comment on this proposed information collection is strongly encouraged.

Dated: March 27, 2001.
Robert B. Briggs,
Department Clearance Officer, United States Department of Justice.

[FR Doc. 01-7865 Filed 3-29-01; 8:45 am]

BILLING CODE 4410-02-M